DEPARTMENT OF HOMELAND SECURITY

Federal Emergency Management Agency

44 CFR Part 65

[Docket ID FEMA-2008-0020; Internal Agency Docket No. FEMA-B-1036]

Changes in Flood Elevation Determinations

AGENCY: Federal Emergency Management Agency, DHS.

ACTION: Interim rule.

SUMMARY: This interim rule lists communities where modification of the Base (1 % annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: St. Clair | Town of Moody (08-04-4404P) | January 9, 2009; January 16, 2009; The Birmingham News | The Honorable Joe Lee, Mayor, Town of Moody, 670 Park Avenue, Moody, AL 35004 | May 18, 2009 | 010187
Arizona:
Maricopa | Unincorporated areas of Maricopa County (08-09-1420P) | December 25, 2008; January 1, 2009; Arizona Business Gazette | The Honorable Andrew W. Kunasek, Chairman, Maricopa County, Board of Supervisors301 West Jefferson, 10th Floor, Phoenix, AZ 85003 | May 4, 2009 | 040037
Pinal | City of Apache Junction (08-09-1318P) | January 12, 2009; January 19, 2009; Apache Junction News | The Honorable Douglas Coleman, Mayor, City of Apache Junction, 300 East Superstition Boulevard, Apache Junction, AZ 85219 | May 19, 2009 | 040120
California: Monterey | City of Salinas (08-09-1361P) | January 12, 2009; January 19, 2009; The Salinas Californian | The Honorable Dennis Donohue, Mayor, City of Salinas, 200 Lincoln Avenue, Salinas, CA 93901 | May 19, 2009 | 060202
Colorado: Jefferson | Unincorporated areas of Jefferson County (08-08-0667P) | January 7, 2009; January 14, 2009; High Timber Times | The Honorable Kathy Hartman, Chairman, Jefferson County, Board of Commissioners, 100 Jefferson County Parkway, Golden, CO 80419-5550 | May 14, 2009 | 080087
Florida:
Lake | Town of Lady Lake (08-04-5093P) | January 12, 2009; January 19, 2009; The Villages Daily Sun | The Honorable Jim Richards, Mayor, Town of Lady Lake, 409 Fennell Boulevard, Lady Lake, FL 32159 | January 30, 2009 | 120613
Miami-Dade | City of Coral Gables (09-04-0251P) | January 12, 2009; January 20, 2009; Miami Daily Business Review | The Honorable Don Slesnick, II, Mayor, City of Coral Gables, 405 Biltmore Way, Second Floor, Coral Gables, FL 33134 | December 31, 2008 | 120639
Georgia: Barrow | Unincorporated areas of Barrow County (08-04-5850P) | January 7, 2009; January 14, 2009; The Barrow County News | Mr. Douglas H. Garrison, Chairman, Barrow County, Board of Commissioners, 233 East Broad Street, Winder, GA 30680 | May 14, 2009 | 130497
Illinois:
DuPage | Unincorporated areas of DuPage County (08-05-0519P) | March 7, 2008; March 14, 2008; Daily Herald | The Honorable Robert J. Schillerstorm, Chairman, DuPage County Board, 505 North County Farm Road, Wheaton, IL 60187 | July 14, 2008 | 170197
DuPage | City of Elmhurst (08-05-0519P) | March 7, 2008; March 14, 2008; Daily Herald | The Honorable Thomas D. Marcucci, Mayor, City of Elmhurst, 209 North York Street, Elmhurst, IL 60126 | July 14, 2008 | 170205
Kansas: Pottawatomie | Unincorporated areas of Pottawatomie County (08-07-1722P) | January 8, 2009; January 15, 2009; The Wamego Times | The Honorable Corwin Seamans, Chairman, Pottawatomie County Commissioners, 207 North First Street, Westmoreland, KS 66549 | May 15, 2009 | 200621
Missouri: St. Charles | Unincorporated areas of St. Charles County (09-07-0032P) | January 12, 2009; January 19, 2009; St. Charles County Business Record | The Honorable Steve Ehlmann, County Executive, St. Charles County, Administration Building, 201 North Second Street, St. Charles, MO 63301 | May 19, 2009 | 290315
New Jersey:
Somerset | Borough of Bound Brook (09-02-0051P) | January 9, 2009; January 16, 2009; Courier News | The Honorable Carey Pilato, Mayor, Borough of Bound Brook, 230 Hamilton Street, Bound Brook, NJ 08805 | December 24, 2008 | 340430
Somerset | Township of Bridgewater (09-02-0051P) | January 9, 2009; January 16, 2009; Courier News | The Honorable Patricia Flannery, Mayor, Township of Bridgewater, P.O. Box 6300, Bridgewater, NJ 08807 | December 24, 2008 | 340432
North Carolina: Onslow | City of Jacksonville (08-04-3999P) | December 23, 2008; December 30, 2008; The Daily News | The Honorable Sammy Phillips, Mayor, City of Jacksonville, P.O. Box 128, Jacksonville, NC 28541 | January 14, 2009 | 370178
Oklahoma:
Oklahoma | Town of Arcadia (08-06-2651P) | January 7, 2009; January 14, 2009; The Oklahoman | The Honorable Marilyn Murrell, Mayor, Town of Arcadia, P.O. Box 268, Arcadia, OK 73004 | December 23, 2008 | 400551
Tulsa | City of Broken Arrow (08-06-2075P) | January 9, 2009; January 16, 2009; Tulsa Daily Commerce & Legal News | The Honorable Wade McCaleb, Mayor, City of Broken Arrow, P.O. Box 610, Broken Arrow, OK 74013 | December 24, 2008 | 400236
Pennsylvania: Allegheny | Municipality of Monroeville (09-03-0036P) | January 12, 2009; January 19, 2009; Pittsburgh Post Gazette | The Honorable Gregory Rosenko, Mayor, Municipality of Monroeville, 2700 Monroeville Boulevard, Monroeville, PA 15146 | December 31, 2008 | 420054
Puerto Rico: Puerto Rico | Commonwealth of Puerto Rico (08-02-1455P) | January 9, 2009; January 16, 2009; Puerto Rico Daily Sun | The Honorable Anibal Acevedo-Vila, Governor, Commonwealth of Puerto Rico, P.O. Box 82, La Fortaleza, San Juan, PR 00901 | May 18, 2009 | 720000
Tennessee: Rutherford | City of Murfreesboro (08-04-3762P) | January 11, 2009; January 18, 2009; The Murfreesboro Post | The Honorable Tommy Bragg, Mayor, City of Murfreesboro, 111 West Vine Street, Murfreesboro, TN 37130 | May 18, 2009 | 470168
Texas:
Bexar | City of San Antonio (08-06-0269P) | January 12, 2009; January 19, 2009; San Antonio Express News | The Honorable Phil Hardberger, Mayor, City of San Antonio, P.O. Box 839966, San Antonio, TX 78283 | May 19, 2009 | 480045
Caldwell | Unincorporated areas of Caldwell County (07-06-2617P) | October 9, 2008; October 16, 2008; Lockhart Post Register | The Honorable H.T. Wright, Caldwell County Judge, 110 South Main Street, Lockhart, TX 78644 | February 20, 2009 | 480094
Caldwell | Town of Martindale (07-06-2617P) | October 9, 2008; October 16, 2008; Lockhart Post Register | The Honorable Patricia Peterson, Mayor, Town of Martindale, P.O. Box 365, Martindale, TX 78655 | February 20, 2009 | 481587
Dallas | City of Garland (08-06-0905P) | January 5, 2009; January 12, 2009; Dallas Morning News | The Honorable Ronald E. Jones, Mayor, City of Garland, P.O. Box 469002, Garland, TX 75046-9002 | May 12, 2009 | 485471
Fort Bend | Fort Bend County M.U.D. #23 (08-06-2237P) | January 9, 2009; January 16, 2009; Fort Bend Herald | The Honorable Ellen Hughes, Board President, Fort Bend County Municipal Utility District No. 23, 1715 Misty Fawn Lane, Fresno, TX 77545 | December 31, 2008 | 481590
Guadalupe | Unincorporated areas of Guadalupe County (07-06-2617P) | October 16, 2008; October 23, 2008; Seguin Gazette Enterprise | The Honorable Mike Wiggins, Guadalupe County Judge, 307 West Court Street, Seguin, Texas 78155 | February 20, 2009 | 480266
Harris | Unincorporated areas of Harris County (08-06-2044P) | January 9, 2009; January 16, 2009; Houston Chronicle | The Honorable Ed Emmett, Harris County Judge, 1001 Preston Street, Suite 911, Houston, TX 77002 | January 30, 2009 | 480287
Hays | Unincorporated areas of Hays County (07-06-2617P) | October 16, 2008; October 23, 2008; San Marcos Daily Record | The Honorable Liz Sumter, Hays County Judge, 111 East San Antonio Street, Suite 300, San Marcos, TX 78666 | February 20, 2009 | 480321
McLennan | Unincorporated areas of McLennan County (09-06-0208P) | January 9, 2009; January 16, 2009; Waco Tribune-Herald | The Honorable Jim Lewis, McLennan County Judge, P.O. Box 1728, Waco, TX 76701 | May 18, 2009 | 480456
McLennan | City of Waco (09-06-0208P) | January 9, 2009; January 16, 2009; Waco Tribune-Herald | The Honorable Virginia Dupuy, Mayor, City of Waco, P.O. Box 2570, Waco, TX 76702 | May 18, 2009 | 480461
Tarrant | Unincorporated areas of Tarrant County (08-06-1292P) | January 9, 2009; January 16, 2009; Commercial Recorder | The Honorable B. Glen Whitley, Tarrant County Judge, 100 East Weatherford Street, Fort Worth, TX 76196 | May 18, 2009 | 480582

(Catalog of Federal Domestic Assistance No. 97.022, “Flood Insurance.”)

Dated: February 6, 2009.
Michael K. Buckley,
Acting Assistant Administrator, Mitigation Directorate, Department of Homeland Security, Federal Emergency Management Agency.

[FR Doc. E9-6575 Filed 3-24-09; 8:45 am]

BILLING CODE 9110-12-P